NUCLEAR REGULATORY COMMISSION

[Docket Nos. 50-361 and 50-362; NRC-2010-0101]

Southern California Edison Company, San Onofre Nuclear Generating Station, Units 2 and 3; Environmental Assessment and Finding of No Significant Impact

The U.S. Nuclear Regulatory Commission (NRC) is considering issuance of an exemption, pursuant to Title 10 of the Code of Federal Regulations (10 CFR) Section 73.5, “Specific exemptions,” from the implementation date for certain new requirements of 10 CFR part 73, “Physical protection of plants and materials,” for Facility Operating License Nos. NPF-10, and NPF-15, issued to Southern California Edison Company (SCE, the licensee), for operation of the San Onofre Nuclear Generating Station, Units 2 and 3 (SONGS 2 and 3), located in San Diego County, California. In accordance with 10 CFR 51.21, the NRC prepared an environmental assessment documenting its finding. The NRC concluded that the proposed actions will have no significant environmental impact.

Environmental Assessment

Identification of the Proposed Action

The proposed action would exempt SCE from the required implementation date of March 31, 2010, for one new requirement of 10 CFR part 73. Specifically, SCE would be granted a second exemption, further extending the date for full compliance with one new requirement contained in 10 CFR 73.55, from October 31, 2010 (the date specified in a prior exemption granted by NRC on March 16, 2010), until February 28, 2011. SCE has proposed an alternate full compliance implementation date of February 28, 2011, which is approximately 11 months beyond the compliance date required by 10 CFR Part 73. The proposed action, an extension of the schedule for completion of certain actions required by the revised 10 CFR part 73, does not involve any physical changes to the reactors, fuel, plant structures, support structures, water, or land at the SONGS 2 and 3 site.

The proposed action is in accordance with the licensee's application dated August 24, 2010, as supplemented by letter dated October 17, 2010. The NRC staff's safety evaluation will be provided in the exemption that will be issued as part of the letter to the licensee approving the exemption from the regulation, if granted.

The Need for the Proposed Action

The proposed action, a second scheduler exemption, is needed to provide the licensee with additional time to implement one specific element of the new requirements in 10 CFR part 73, which involves significant physical modifications to the SONGS 2 and 3 security systems. While the licensee completed much of the work required by the 10 CFR Part 73 rule change at SONGS 2 and 3 by the March 31, 2010, implementation date, and has made substantial progress on completing the remaining item for which the previous scheduler exemption was granted, SCE requires additional time to complete all modifications associated with the single remaining item to achieve full compliance with 10 CFR part 73.

Environmental Impacts of the Proposed Action

The NRC has completed its environmental assessment of the proposed action. The staff has concluded that the proposed action to further extend the implementation deadline for one item would not significantly affect plant safety and would not significantly affect the probability of an accident.

The proposed action would not result in an increased radiological hazard beyond those hazards previously analyzed in the environmental assessment and finding of no significant impact made by the Commission in promulgating its revisions to 10 CFR part 73 as discussed in a Federal Register notice dated March 27, 2009; 74 FR 13926. There will be no change to radioactive effluents or emissions that affect radiation exposures to plant workers and members of the public. Therefore, no radiological impacts are expected as a result of the proposed exemption.

The proposed action is an extension of the compliance deadline and will not result in any additional construction or major renovation of any buildings or structures, nor any ground disturbing activities, beyond the security improvements previously planned to achieve compliance with the new rule. No changes in the size of the workforce, or in traffic to or around SONGS 2 and 3, are expected as a result of an extension of the compliance deadline. Providing the licensee with additional time to comply with the revised requirements of 10 CFR 73.55 would not alter land use, air quality, and water use (quality and quantity) conditions or National Pollutant Discharge Elimination System permits at SONGS 2 and 3. Aquatic and terrestrial habitat in the vicinity of the plant; threatened, endangered, and protected species under the Endangered Species Act; and essential fish habitat covered by the Magnuson-Stevens Act would not be affected. In addition, historic and cultural resources, socioeconomic conditions, and minority- and low-income populations in the vicinity of SONGS 2 and 3 would also not be affected by this action. Therefore, no changes to or different types of non-radiological environmental impacts are expected as a result of the proposed exemption.

As previously noted, in promulgating its amendments to 10 CFR part 73, the Commission prepared an environmental assessment of the rule change and published a finding of no significant impact (10 CFR parts 50, 52, 72, and 73, Power Reactor Security Requirements, March 27, 2009; 74 FR 13926). Thus, through the proposed action, the Commission would be granting additional time for the licensee to comply with regulatory requirements for which the Commission has already found no significant impact.

For the foregoing reasons, the NRC concludes that there would be no significant radiological or non-radiological environmental impacts associated with the extension of the implementation date for one element of the new requirements of 10 CFR 73.55 for SONGS 2 and 3.

Environmental Impacts of the Alternatives to the Proposed Action

As an alternative to the proposed action, the NRC staff considered denial of the proposed action (i.e., the “no-action” alternative). Denial of the exemption request would result in no change in current environmental impacts. Denial of the exemption request would result in the licensee being in non-compliance with 10 CFR 73.55(a)(1) and thus, subject to NRC enforcement action. The end result, however, would still be ultimate licensee compliance with the requirements of 10 CFR 73.55, but with the added expense to both the NRC and the licensee of any enforcement actions. The NRC concludes that the environmental impacts of the proposed exemption and the “no action” alternative are similar.

Alternative Use of Resources

The proposed action does not involve the use of any different resources than those previously considered in the Final Environmental Statement for SONGS Units 2 and 3, dated May 12, 1981.

Agencies and Persons Consulted

In accordance with its stated policy, on October 22, 2010, the NRC staff consulted with the California State official, Mr. Stephen Hsu of the California Department of Public Health, regarding the environmental impact of the proposed action. The State official had no comments.

Finding of No Significant Impact

On the basis of the above environmental assessment, which in accordance with 10 CFR 51.32(a)(4), is incorporated into this finding of no significant impact by reference, the NRC concludes that the proposed action constitutes an administrative change (timing) that would not have a significant effect on the quality of the human environment. Accordingly, the NRC has determined not to prepare an environmental impact statement for the proposed action.

For further details with respect to the proposed action, see the licensee's letter dated August 24, 2010, as supplemented by letter dated October 17, 2010. Portions of the August 24 and October 17, 2010, submittals contain safeguards and security-related information and, accordingly, redacted versions of those letters are available for public review in the Agencywide Documents Access and Management System (ADAMS), at Accession Nos. ML102380401 and ML102920691, respectively. These documents may be examined, and/or copied for a fee, at the NRC's Public Document Room (PDR), located at One White Flint North, Public File Area O-1F21, 11555 Rockville Pike (first floor), Rockville, Maryland 20852. Publicly available records will be accessible electronically from the ADAMS Public Electronic Reading Room on the Internet at the NRC Web site: http://www.nrc.gov/reading-rm/adams.html. Persons who do not have access to ADAMS or who encounter problems in accessing the documents located in ADAMS should contact the NRC PDR Reference staff by telephone at 1-800-397-4209 or 301-415-4737, or send an e-mail to pdr.resource@nrc.gov.

Dated at Rockville, Maryland, November 3, 2010.
For the Nuclear Regulatory Commission.
James R. Hall,
Senior Project Manager, Plant Licensing Branch IV, Division of Operating Reactor Licensing, Office of Nuclear Reactor Regulation.

[FR Doc. 2010-28395 Filed 11-9-10; 8:45 am]

BILLING CODE 7590-01-P